FEDERAL DEPOSIT INSURANCE CORPORATION

[OMB No. 3064-0212]

Agency Information Collection Activities: Proposed Collection Amendment; Comment Request

AGENCY: Federal Deposit Insurance Corporation (FDIC).

ACTION: Agency information collection activities: Submission for OMB review; comment request.

SUMMARY: The FDIC seeks to continue its engagement and collaboration with innovators in the financial, non-financial, and technology sectors to, among other things, identify, develop and promote technology-driven innovations among community and other banks in a manner that ensures the safety and soundness of FDIC-supervised and -insured institutions. An innovation pilot program framework can provide a regulatory environment in which the FDIC, in conjunction with individual proposals collected from innovators, including banks, will provide tailored regulatory and supervisory assistance, when appropriate, to facilitate the testing of innovative and advanced technologies, products, services, systems, or activities. As part of an innovation pilot program, innovators may request information from banks and other members of the public outside of their normal course of business. Any information provided by banks and other members of the public will be provided on a voluntary basis. FDIC staff may similarly request information on a voluntary basis from banks or other members of the public to evaluate the products or services developed in the pilot programs. The FDIC invites the general public, including persons who may have an interest in participating in innovation pilot programs, and other Federal agencies to comment on the agency's collection of information that may result from innovators obtaining information from banks and other members of the public in connection with innovation pilot programs, as required by the Paperwork Reduction Act of 1995. On September 22, 2021 and September 28, 2021, the FDIC published notices in the Federal Register requesting comment for 60 days on a proposal to amend this information collection. One comment was received but did not indicate any changes to be made to the information collection. The FDIC hereby gives notice of its plan to submit to OMB a request to approve the amended information collection, and again invites comment.

DATES: Comments must be submitted on or before December 29, 2021.

ADDRESSES: Interested parties are invited to submit written comments to the FDIC by any of the following methods:

• Agency Website: https://www.fdic.gov/resources/regulations/federal-register-publications/index.html.

• Email: comments@fdic.gov. Include the name of the collection in the subject line of the message.

• Mail: Jennifer Jones (202-898-6768), Counsel, MB-3078, Federal Deposit Insurance Corporation, 550 17th Street NW, Washington, DC 20429.

• Hand Delivery: Comments may be hand-delivered to the guard station at the rear of the 17th Street NW building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Jennifer Jones, Counsel, 202-898-6768, jennjones@fdic.gov, MB-3078, Federal Deposit Insurance Corporation, 550 17th Street NW, Washington, DC 20429.

SUPPLEMENTARY INFORMATION: Proposal to amend the following currently approved collection of information:

1. Title: Information Collection for Innovation Pilot Programs.

OMB Number: 3064-0212.

Form Number: None.

Affected Public: FDIC-supervised and -insured institutions and other members of the public that provide information to innovators in connection with innovation pilot programs.

Burden Estimate:

Summary of Annual Burden
Information collection description | Type of burden | Obligation to respond | Estimated number of respondents | Estimated frequency of responses | Estimated time per response | Estimated annual burden (hours)
Innovation Pilot Programs—Burden on Banks and Other Members of the Public | Reporting | Voluntary | 400 | On Occasion | 100 | 40,000
Total Estimated Annual Burden |  |  |  |  |  | 40,000

General Description of Collection: The FDIC seeks to engage and collaborate with innovators in the financial, non-financial, and technology sectors to, among other things, identify, develop and promote technology-driven innovations among community and other banks in a manner that ensures the safety and soundness of FDIC-supervised and -insured institutions. An innovation pilot program framework will provide a regulatory environment in which the FDIC, in conjunction with individual proposals collected from innovators, will provide tailored regulatory and supervisory assistance, when appropriate, to facilitate the testing of innovative and advanced technologies, products, services, systems, or activities.

The FDIC anticipates that products developed as part of innovation pilot programs will improve the efficiency and effectiveness of bank operations, and eventually, examinations, while increasing transparency and ultimately reducing the cost of regulatory compliance for participating institutions. In addition, the FDIC anticipates that proposals provided in connection with the innovation pilot programs will involve cutting-edge innovations and novel approaches or applications involving a banking product, service, system, or activity that benefits and can lead to better outcomes for consumers.

As part of an innovation pilot program, innovators may request information from banks and other members of the public outside of their normal course of business. Any information provided by banks and other members of the public will be provided on a voluntary basis. FDIC staff may similarly request information on a voluntary basis from banks or other members of the public to evaluate the products or services developed in the pilot programs. This information is intended to allow banks and the FDIC to analyze the health of the overall banking system, critical financial sectors, or national, regional or local economic conditions (i.e., horizontal analysis). Additionally, bank specific information may be collected in order to allow for better insights into current and escalating risks across all aspects of banking. In particular, innovators may request from banks and other members of the public general ledger information about all products and services, or a subset of products and services, systems or activities. Information requested will not contain any personally identifiable information (PII) as defined in OMB Circular A-130 or include the disclosure of any financial records or information which is identified with or identifiable as being derived from the financial records of a particular customer.

The annual burden for this information collection is estimated to be 40,000 hours. This represents an increase of hours from the current burden estimate and also a change in focus. In particular, when this information collection was first obtained, it included the burden imposed on the innovators and partner banks. In review of this information collection, the FDIC has decided to transfer the burden imposed on innovators to existing information collection 3064-0072 entitled, “Acquisition Services Information Requirements,” which is related to the FDIC's procurement process. The remaining hours in this information collection, which have been updated and increased, reflect the burden imposed on banks and other members of the public in connection with innovation pilot programs.

Request for Comment

Comments are invited on: (a) Whether the collection of information is necessary for the proper performance of the FDIC's functions, including whether the information has practical utility; (b) the accuracy of the estimate of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on November 23, 2021.
James P. Sheesley,
Assistant Executive Secretary.

[FR Doc. 2021-25924 Filed 11-26-21; 8:45 am]

BILLING CODE 6714-01-P